DEPARTMENT OF DEFENSE

Department of the Air Force

[Docket ID USAF-2010-0016]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: The changes will be effective on July 19, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the Air Force Privacy Act Officer, Office of Warfighting Integration and Chief Information Officer, SAF/XCPPF, 1800 Air Force Pentagon, Washington, DC 20330-1800.

The specific changes to the records system being amended are set forth below followed by the notice, as amended, published in its entirety. The proposed amendments are not within the purview of subsection (r) of the Privacy Act of 1974, (5 U.S.C. 552a), as amended, which requires the submission of a new or altered system report.

Dated: June 14, 2010.
Mitchell S. Bryman,
Alternate OSD Federal Register Liaison Officer, Department of Defense.

F044 AF SG E

System name:

Medical Record System (December 9 2003; 68 FR 68609)

Changes:

* * * * *

Categories of records in the system:

Delete entry and replace with “Full name, Social Security Number (SSN), or Military Service Number, date treatment was provided, name of facility providing treatment, inpatient, outpatient, and ambulatory procedure visit (APV) records of care received in Air Force medical facilities. Documentation includes, but is not limited to: patient's medical history; physical examination; treatment received; supporting documentation such as laboratory and x-ray reports; cover sheets and summaries of hospitalization; diagnoses, procedures or surgery performed; administrative forms which concern medical conditions such as Line of Duty Determinations, physical profiles, and medical recommendations for flying duty. Secondary files are maintained such as patient registers, nominal indices, x-ray and laboratory files, indices and registers.”

Authority for maintenance of the system:

Delete entry and replace with “10 U.S.C. 8013, Secretary of the Air Force; 10 U.S.C. 55, Medical and Dental Care; and E.O. 9397 (SSN), as amended.”

* * * * *

Routine uses of records maintained in the system, including categories of users and the purposes of such uses:

Add as last paragraph: “NOTE: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Retention and disposal:

Delete entry and replace with “While on active duty, the Health Record of a U.S. military member is maintained at the medical unit at which the person receives treatment.

On separation or retirement, records are forwarded to the Department of Veterans Affairs, Records Management Center in St. Louis, MO or to the appropriate Veterans Affairs Regional Office if a Veterans Affairs claim has been filed.

Records of non-active duty personnel are mailed to the next military medical facility at which treatment will be received or the records are retained at the treating facility until 2 years after the end of the calendar year of the last date of treatment and then retired to the National Personnel Record Center (NPRC) or other designated depository, such as, but not limited to, Medical Director, American Red Cross, Washington, DC 20006 for Red Cross personnel. At NPRC all inpatient, outpatient, and APV records are retained for 50 years after date of last document.

In addition, military records sent to the DVA after 1 May 1994 are maintained for 50 years after date of last document.”

* * * * *

F044 AF SG E

System name:

Medical Record System

System location:

Headquarters, United States Air Force, Surgeon General (HQ USAF/SG), medical centers, hospitals and clinics, medical aid stations, National Personnel Record Centers, Air National Guard activities, and Air Force Reserve units. Official mailing addresses are published as an appendix to the Air Force compilation of systems notices.

Categories of individuals covered by the system:

Persons treated in an Air Force medical facility and active duty members for whom primary care is provided.

Categories of records in the system:

Full name, Social Security Number (SSN), or Military Service Number, date treatment was provided, name of facility providing treatment, inpatient, outpatient, and ambulatory procedure visit (APV) records of care received in Air Force medical facilities. Documentation includes, but is not limited to: patient's medical history; physical examination; treatment received; supporting documentation such as laboratory and x-ray reports; cover sheets and summaries of hospitalization; diagnoses, procedures or surgery performed; administrative forms which concern medical conditions such as Line of Duty Determinations, physical profiles, and medical recommendations for flying duty. Secondary files are maintained such as patient registers, nominal indices, x-ray and laboratory files, indices and registers.

Authority for maintenance of the system:

10 U.S.C. 8013, Secretary of the Air Force; 10 U.S.C. 55, Medical and Dental Care; and E.O. 9397 (SSN), as amended.

Purpose(s):

Used to document, plan, and coordinate the health care of patients; aid in preventative health and communicable disease control programs; determine eligibility and suitability for benefits for various programs; adjudicate claims; evaluate care rendered; teach/compile statistical data; and conduct research.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Information from the inpatient, outpatient or APV medical records of retirees and dependents may be disclosed to third party payers for the purpose of collecting reasonable inpatient/outpatient/APV hospital care costs incurred on behalf of retirees or dependents. Records are used and reviewed by health care providers in the performance of their duties. Health care providers include military and civilian providers assigned to the medical facility where care is being provided. Students participating in a training affiliation program with a USAF medical facility may also use and review records as part of their training program. In addition, records may be disclosed to:

(1) Officials and employees of the Department of Veterans Affairs in the performance of their official duties relating to the adjudication of veterans' claims and in providing medical care to members of the Air Force.

(2) Officials and employees of other departments and agencies of the Executive Branch of government upon request in the performance of their official duties relating to review of the official qualifications and medical history of applicants and employees who are covered by the record system and for the conduct of research studies.

(3) Private organizations (including educational institutions) and individuals for authorized health research in the interest of the Federal government and the public. When not considered mandatory, patient identification data shall be eliminated from records used for research studies.

(4) Officials and employees of the National Research Council in cooperative studies of the National History of Disease of prognosis and of epidemiology. Each study in which the records of members and former members of the Air Force are used must be approved by the Surgeon General of the Air Force.

(5) Officials and employees of local and state governments and agencies in the performance of their official duties pursuant to the laws and regulations governing local control of communicable diseases, preventive medicine and safety programs, child abuse and other public health and welfare programs.

(6) Authorized surveying bodies for professional certification and accreditations.

(7) The individual's organization or government agency as necessary when required by Federal statute, Executive Order or by treaty.

The DoD “Blanket Routine Uses” published at the beginning of the Air Force's compilation of record system notices apply to this system, except as stipulated in `Notes' below.

NOTE: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records and electronic storage media.

Retrievability:

By name, Social Security Number (SSN), or by Military Service Number.

Safeguards:

Records are accessed by commanders of medical centers, hospitals and clinics; by custodian of the record system; and by person(s) responsible for servicing the record system in performance of their official duties and by authorized personnel who are properly screened and cleared by need-to-know. Records are stored in locked rooms and cabinets, and access to automated records is controlled and limited.

Retention and disposal:

While on active duty, the Health Record of a U.S. military member is maintained at the medical unit at which the person receives treatment.

On separation or retirement, records are forwarded to the Department of Veterans Affairs, Records Management Center in St. Louis, MO or to the appropriate Veterans Affairs Regional Office if a Veterans Affairs claim has been filed.

Records of non-active duty personnel are mailed to the next military medical facility at which treatment will be received or the records are retained at the treating facility until 2 years after the end of the calendar year of the last date of treatment and then retired to the National Personnel Record Center (NPRC) or other designated depository, such as, but not limited to, Medical Director, American Red Cross, Washington, DC 20006 for Red Cross personnel. At NPRC all inpatient, outpatient, and APV records are retained for 50 years after date of last document.

In addition, military records sent to the DVA after 1 May 1994 are maintained for 50 years after date of last document.

System manager(s) and address:

The Surgeon General, Headquarters United States Air Force.

Chief of Air Force Reserve, Headquarters United States Air Force.

Director of Air National Guard, Headquarters United States Air Force.

Commanders of medical centers, hospitals, clinics, medical aid stations: Commander, Air Force Personnel Center. Official mailing addresses are published as an appendix to the Air Force's compilation of system notices.

Notification procedure:

Individuals seeking to determine whether this system of records contains information about themselves should address inquiries to or visit the system manager. Official mailing addresses are published as an appendix to the Air Force's compilation of record systems notices.

Requester must submit full name, Social Security Number (SSN) (or Military Service Number) through whom eligibility for care is established: date (at least year) treatment was provided; name of facility providing treatment; and whether treatment was as inpatient or outpatient.

Record access procedures:

Individuals seeking access to records about themselves contained in this system should address requests to the system manager. Official mailing addresses are published as an appendix to the Air Force's compilation of systems notices.

Requester must submit full name, Social Security Number (SSN) (or Military Service Number) through whom eligibility for care is established: date (at least year) treatment was provided; name of facility providing treatment; and whether treatment was as inpatient or outpatient.

Contesting record procedures:

The Air Force rules for accessing records and for contesting contents and appealing initial agency determinations are published in Air Force Instruction 37-132; 32 CFR part 1806b; or may be obtained from the system manager.

Record source categories:

Physicians and other patient care providers such as nurses, dietitians, and physicians assistants. Administrative forms are completed by appropriate military or civilian officials.

Exemptions claimed for the system:

None.

[FR Doc. 2010-14712 Filed 6-17-10; 8:45 am]

BILLING CODE 5001-06-P